DEPARTMENT OF ENERGY

Federal Energy Regulatory Commission

Combined Notice of Filings #1

August 31, 2009.

Take notice that the Commission received the following electric rate filings:

Docket Numbers: ER98-1992-006; ER08-444-004; ER06-1143-004.

Applicants: Medical Area Total Energy Plant, Inc., NSTAR Electric Company, MATEP LLC.

Description: NSTAR Electric Company et al request for full waiver of the Code of Conduct requirements for market-based rates etc.

Filed Date: 08/28/2009.

Accession Number: 20090831-0034.

Comment Date: 5 p.m. Eastern Time on Friday, September 18, 2009.

Docket Numbers: ER05-557-003.

Applicants: Grant Energy, Inc.

Description: Grant Energy, Inc submits Original Sheet 1 et al to FERC to its FERC Gas Tariff, First Revised Volume 1.

Filed Date: 08/28/2009.

Accession Number: 20090831-0026.

Comment Date: 5 p.m. Eastern Time on Friday, September 18, 2009.

Docket Numbers: ER06-615-052; ER08-367-006.

Applicants: California Independent System Operator Corporation.

Description: California Independent System Operator Corporation submits Second Substitute Third Revised Sheet 490 et al to FERC Electric Tariff, Fourth Replacement Volume 1.

Filed Date: 08/28/2009.

Accession Number: 20090831-0033.

Comment Date: 5 p.m. Eastern Time on Friday, September 18, 2009.

Docket Numbers: ER07-1344-002.

Applicants: Westar Energy, Inc.

Description: Westar Energy, Inc submits Cost Based Formula Rate Agreement for Full Requirements Electric Service effective 9/1/09.

Filed Date: 08/28/2009.

Accession Number: 20090831-0003.

Comment Date: 5 p.m. Eastern Time on Friday, September 18, 2009.

Docket Numbers: ER09-1356-001.

Applicants: Grand Ridge Energy LLC.

Description: Grand Ridge Energy, LLC et al (Grand Ridge Companies) submits First Revised Sheet 1 et al to Rate Schedule FERC 1.

Filed Date: 08/28/2009.

Accession Number: 20090831-0025.

Comment Date: 5 p.m. Eastern Time on Friday, September 18, 2009.

Docket Numbers: ER09-1643-000.

Applicants: E.ON U.S., LLC.

Description: Louisville Gas and Electric Co et al submits First Revised Sheet 1 et al to FERC Electric Tariff, Fourth Revised Volume 1.

Filed Date: 08/28/2009.

Accession Number: 20090831-0035.

Comment Date: 5 p.m. Eastern Time on Friday, September 18, 2009.

Docket Numbers: ER09-1644-000.

Applicants: Wisconsin Power and Light Company.

Description: Wisconsin Power and Light Company submits Second Revised Sheet 11 et al to FERC Electric Tariff, Second Revised Volume 11.

Filed Date: 08/28/2009.

Accession Number: 20090831-0032.

Comment Date: 5 p.m. Eastern Time on Friday, September 18, 2009.

Docket Numbers: ER09-1646-000.

Applicants: PacifiCorp.

Description: PacifiCorp submits four unexecuted Firm Transmission Service Agreements with Wasatch Intermountain, LLC designated as Service Agreement 584 through 587 under PacifiCorp's Seventh Revised Volume 11 etc.

Filed Date: 08/28/2009.

Accession Number: 20090831-0031.

Comment Date: 5 p.m. Eastern Time on Friday, September 18, 2009.

Docket Numbers: ER09-1647-000.

Applicants: Entergy Services, Inc.

Description: Entergy Services, Inc submits First Revised Service Agreement 535, an Affected System Facility Upgrade Agreement with Tennessee Valley Authority etc.

Filed Date: 08/28/2009.

Accession Number: 20090831-0030.

Comment Date: 5 p.m. Eastern Time on Friday, September 18, 2009.

Docket Numbers: ER09-1648-000.

Applicants: Midwest Independent Transmission System Operator, Inc.

Description: Midwest Independent Transmission System Operator, Inc. submits Notice of Termination and Consent to Termination of the Interconnection and Operating Agreement with Dakota I Power Partners, LLC.

Filed Date: 08/28/2009.

Accession Number: 20090831-0029.

Comment Date: 5 p.m. Eastern Time on Friday, September 18, 2009.

Docket Numbers: ER09-1649-000.

Applicants: Midwest Independent Transmission System Operator, Inc.

Description: Midwest Independent Transmission System Operator, Inc. submits Notice of Termination and Consent to Termination of the Large Generator Interconnection Agreement with Great River Energy.

Filed Date: 08/28/2009.

Accession Number: 20090831-0028.

Comment Date: 5 p.m. Eastern Time on Friday, September 18, 2009.

Docket Numbers: ER09-1650-000.

Applicants: BP Wind Energy North America Inc., Fowler Ridge Wind Farm LLC, Fowler Ridge II Wind Farm LLC, Fowler Ridge III Wind Farm LLC, Dominion Fowler Ridge Wind II, LLC.

Description: BP Wind Energy North America, Inc et al submits Original Sheet 1 et al to FERC Rate Schedule Original Volume 1.

Filed Date: 08/28/2009.

Accession Number: 20090831-0027.

Comment Date: 5 p.m. Eastern Time on Friday, September 18, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Kimberly D. Bose,
Secretary.

[FR Doc. E9-21489 Filed 9-4-09; 8:45 am]

BILLING CODE 6717-01-P